DEPARTMENT OF HEALTH AND HUMAN SERVICES

Administration for Children and Families

Proposed Information Collection Activity; Comment Request

Proposed Projects

Title: Mentoring Children of Prisoners Program: quarterly caseload data collection.

OMB No.: New collection.

Description: The Promoting Safe and Stable Families Amendments of 2001 (Pub. L. 107-133) amend Title IV-B of the Social Security Act (42 U.S.C. 629-629e) to provide funding for nonprofit agencies that recruit, screen, train, and support mentors for children with an incarcerated parent or parents. The mentoring program is administered by the Family and Youth Services Bureau (FYSB) of the Administration for Children and Families in the Department of Health and Human Services. Pursuant to annual performance planning and reporting requirements placed upon Federal agencies by the Government Performance and Results Act, and in order to maintain oversight and exercise proper stewardship of taxpayer-funded programs, FYSB must regularly collect information on operations, outputs, and outcomes of the mentoring program. Moreover, Subpart 2, Section 439(g) of the Act directs the Secretary of Health and Human Services to conduct an evaluation of this mentoring program and submit a report to Congress on the findings.

Respondents: Private, community-based nonprofit and faith-based organizations receiving HHS funds for programs providing mentoring services to children with incarcerated parents.

Annual Burden Estimates
Instrument | Number of respondents | Number of responses per respondent | Average burden hours per response | Total burden hours
Quarterly Caseload Form | 250 | 4 | 16 | 16000

Estimated Total Annual Burden Hours: 16000.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 9, 2004.
Robert Sargis,
Reports Clearance, Officer.

[FR Doc. 04-3208 Filed 2-12-04; 8:45 am]

BILLING CODE 4184-01-M